DEPARTMENT OF COMMERCE

International Trade Administration

[A-560-826]

Monosodium Glutamate From the Republic of Indonesia: Preliminary Results of Antidumping Duty Administrative Review; 2016-2017

AGENCY: Enforcement and Compliance, International Trade Administration, Department of Commerce.

SUMMARY: The Department of Commerce (Commerce) preliminarily determines that PT. Cheil Jedang Indonesia (CJ Indonesia), the sole respondent in this administrative review, made sales of subject merchandise in the United States at prices below normal value during the period of review covering November 1, 2016, through October 31, 2017 (POR). Commerce is also rescinding the administrative review with respect to PT. Miwon Indonesia (Miwon). We invite interested parties to comment on these preliminary results.

DATES: Applicable December 11, 2018.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On January 11, 2018, based on requests from interested parties, Commerce initiated the administrative review on monosodium glutamate (MSG) from the Republic of Indonesia (Indonesia) covering Miwon and CJ Indonesia.¹ A detailed description of the events that followed the initiation of this review can be found in the Preliminary Decision Memorandum.² This administrative review is being conducted in accordance with section 751(a) of the Tariff Act of 1930, as amended (the Act).

¹ See Initiation of Antidumping and Countervailing Duty Administrative Reviews, 83 FR 1329 (January 11, 2018) (Initiation Notice).

² See Memorandum, “Decision Memorandum for the Preliminary Results of the Antidumping Duty Administrative Review: Monosodium Glutamate from the Republic of Indonesia; 2016-2017,” (Preliminary Decision Memorandum), which is dated concurrently with, and hereby adopted by, this notice.

Scope of the Order

The product covered by this review is MSG from Indonesia. A complete description of the scope of the order can be found in the Preliminary Decision Memorandum.

Partial Rescission of Administrative Review

Pursuant to 19 CFR 351.213(d)(1), the Secretary will rescind an administrative review, in whole or in part, if the party that requested the review withdraws its request within 90 days of the date of publication of the notice of initiation of the requested review. The notice initiating the instant administrative review was published on January 11, 2018. On April 4, 2018, Daesang America, Inc. (Daesang), a U.S. importer of MSG from Indonesia, timely withdrew its request for an administrative review with respect to Miwon.³ Because Daesang timely withdrew its request for an administrative review of Miwon within 90 days of the date of publication of the Initiation Notice, and as there are no remaining requests to review Miwon, Commerce is rescinding this review with respect to Miwon, in accordance with 19 CFR 351.213(d)(1).

³ See Letter from Daesang, “Monosodium Glutamate from Indonesia: Requesting Rescission of Administrative Review—PT. Miwon, Indonesia,” dated April 4, 2018.

Methodology

Commerce is conducting this administrative review in accordance with sections 751(a)(1)(B) and (2) of the Act. Export price and constructed export price are calculated in accordance with section 772 of the Act. Normal value is calculated in accordance with section 773 of the Act. A full description of the methodology underlying these preliminary results can be found in the Preliminary Determination Memorandum. A list of the topics included in the Preliminary Decision Memorandum is included as an appendix to this notice. The Preliminary Decision Memorandum is a public document and is on file electronically via Enforcement and Compliance's Antidumping and Countervailing Duty Centralized Duty Electronic Service System (ACCESS). ACCESS is available to registered users at http://access.trade.gov, and to all parties in the Central Records Unit, room B8024 of the main Department of Commerce building. In addition, a complete version of the Preliminary Decision Memorandum can be accessed at http://enforcement.trade.gov/frn/index.html. The signed Preliminary Decision Memorandum and its electronic version are identical in content.

Preliminary Results of Review

Commerce preliminarily determines that a weighted-average margin of 24.68 percent exists for CJ Indonesia for the period November 1, 2016, through October 31, 2017.

Assessment Rates

Upon issuance of the final results of this administrative review, Commerce shall determine, and U.S. Customs and Border Protection (CBP) shall assess, antidumping duties on all appropriate entries covered by this review.⁴

⁴ See 19 CFR 351.212(b).

If the weighted-average dumping margin for CJ Indonesia is not zero or de minimis (i.e., less than 0.5 percent), we will calculate importer-specific ad valorem antidumping duty assessment rates based on the ratio of the total amount of dumping calculated for the importer's examined sales to the total entered value of those same sales in accordance with 19 CFR 351.212(b)(1). We will instruct CBP to assess antidumping duties on all appropriate entries covered by this review when the importer-specific assessment rate calculated in the final results of this review is above de minimis (i.e., 0.5 percent). If the respondent's (i.e., CJ Indonesia's) weighted-average dumping margin is zero or de minimis, or an importer-specific assessment rate is zero or de minimis, we will instruct CBP to liquidate the appropriate entries without regard to antidumping duties. The final results of this review shall be the basis for the assessment of antidumping duties on entries of merchandise covered by the final results of this review where applicable.

In accordance with Commerce's “automatic assessment” practice, for entries of subject merchandise during the POR produced by CJ Indonesia for which the producer did not know that its merchandise was destined for the United States, we will instruct CBP to liquidate entries not reviewed at the all-others rate if there is no rate for the intermediate company (or companies) involved in the transaction.⁵ We intend to issue appropriate instructions to CBP 15 days after the date of publication of the final results of this review.

⁵ See Antidumping and Countervailing Duty Proceedings: Assessment of Antidumping Duties, 68 FR 23954 (May 6, 2003).

For the company for which this review is rescinded (i.e., Miwon), antidumping duties shall be assessed at rates equal to the cash deposit of estimated antidumping duties required at the time of entry, or withdrawal from warehouse, for consumption, during the period in accordance with 19 CFR 351.212(c)(1)(i). Commerce intends to issue appropriate assessment instructions with respect to the company for which this review is being rescinded to CBP 15 days after the publication of this notice.

Cash Deposit Requirements

The following cash deposit requirements will be effective for all shipments of the subject merchandise entered, or withdrawn from warehouse, for consumption on or after the publication date of the final results of this administrative review, as provided by section 751(a)(2)(C) of the Act: (1) The cash deposit rate for CJ Indonesia will be the rate established in the final results of this review, except if the rate is less than 0.5 percent and, therefore, de minimis within the meaning of 19 CFR 351.106(c)(1), in which case the cash deposit rate will be zero; (2) for previously reviewed or investigated companies not participating in this review, the cash deposit rate will continue to be the company-specific rate published for the most recent period; (3) if the exporter is not a firm covered in this review, a prior review, or the less-than-fair-value (LTFV) investigation, but the manufacturer is covered in this review, the cash deposit rate will be the rate established for the most recent period for the manufacturer of the merchandise; and (4) the cash deposit rate for all other manufacturers or exporters will continue to be 6.19 percent, the all-others rate established in the LTFV investigation.⁶ These deposit requirements, when imposed, shall remain in effect until further notice.

⁶ See Monosodium Glutamate from the People's Republic of China, and the Republic of Indonesia: Antidumping Duty Orders; and Monosodium Glutamate from the People's Republic of China: Amended Final Determination of Sales at Less Than Fair Value, 79 FR 70505 (November 26, 2014).

Disclosure and Public Comment

Commerce intends to disclose to interested parties the calculations performed in reaching these preliminary results within five days of the date of publication of this notice in accordance with 19 CFR 351.224(b). Interested parties may submit written comments (case briefs) at a date to be determined by Commerce and rebuttal comments (rebuttal briefs) within five days after the time limit for filing case briefs.⁷ Rebuttal briefs must be limited to issues raised in the case briefs.⁸ Commerce will notify interested parties when it has determined a deadline for case briefs. Parties who submit case or rebuttal briefs are requested to submit with the argument: (1) A statement of the issue; (2) a brief summary of the argument; and (3) a table of authorities.⁹

⁷ See 19 CFR 351.309(c)(l)(ii) and 351.309(d)(l). Interested parties will be notified through ACCESS regarding the deadline for submitting case briefs.

⁸ See 19 CFR 351.309(d)(2).

⁹ See 19 CFR 351.309(c)(2) and (d)(2).

Interested parties who wish to request a hearing must do so within 30 days of publication of these preliminary results by submitting a written request to the Assistant Secretary for Enforcement and Compliance, U.S. Department of Commerce, using Enforcement and Compliance's ACCESS system.¹⁰ Hearing requests should contain the party's name, address, and telephone number, the number of participants, and a list of the issues to be discussed. If a request for a hearing is made, we will inform parties of the scheduled date for the hearing, which will be held at the U.S. Department of Commerce, 14th Street and Constitution Avenue NW, Washington, DC 20230, at a time and location to be determined.¹¹ Parties should confirm by telephone the date, time, and location of the hearing. Issues addressed at the hearing will be limited to those raised in the briefs.¹² All briefs and hearing requests must be filed electronically and received successfully in their entirety through ACCESS by 5:00 p.m. Eastern Time by their respective deadlines.

¹⁰ See 19 CFR 351.310(c).

¹¹ See 19 CFR 351.310.

¹² See 19 CFR 351.310(c).

Commerce intends to issue the final results of this administrative review, including the results of its analysis of issues raised in any written briefs, not later than 120 days after the date of publication of this notice, unless otherwise extended.¹³

¹³ See section 751(a)(3)(A) of the Act.

Notification to Importers

This notice serves as a preliminary reminder to importers of their responsibility under 19 CFR 351.402(f) to file a certificate regarding the reimbursement of antidumping and/or countervailing duties prior to liquidation of the relevant entries during this review period. Failure to comply with this requirement could result in the Secretary's presumption that reimbursement of antidumping duties and/or countervailing duties occurred and the subsequent assessment of double antidumping duties.

We are issuing and publishing these preliminary results in accordance with sections 751(a)(1) and 777(i)(1) of the Act.

Dated: December 3, 2018.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Scope of the Order

IV. Partial Rescission of Administrative Review

V. Discussion of the Methodology

A. Comparison to Normal Value

1. Determination of Comparison Method

2. Results of Differential Pricing Analysis

B. Product Comparisons

C. Date of Sale

D. Constructed Export Price

VI. Normal Value

A. Home Market Viability as Comparison Market

B. Affiliated Party Transactions and Arm's-Length Test

C. Level of Trade

D. Cost of Production Analysis

1. Calculation of Cost of Production

2. Test of Comparison Market Sales Prices

3. Results of Cost of Production Test

4. Calculation of Normal Value Based on Comparison Prices

VII. Currency Conversion

VIII. Verification

IX. Recommendation

[FR Doc. 2018-26772 Filed 12-10-18; 8:45 am]

BILLING CODE 3510-DS-P